DEPARTMENT OF COMMERCE

International Trade Administration

[A-570-215]

L-Lysine From the People's Republic of China: Postponement of Preliminary Determination in the Less-Than-Fair-Value Investigation

AGENCY: Enforcement and Compliance, International Trade Administration, Department of Commerce.

DATES: Applicable December 29, 2025.

FOR FURTHER INFORMATION CONTACT: Mira Warrier and Jerry Xiao, AD/CVD Operations, Office II, Enforcement and Compliance, International Trade Administration, U.S. Department of Commerce, 1401 Constitution Avenue NW, Washington, DC 20230, telephone: (202) 482-8031 and (202) 482-2273, respectively.

SUPPLEMENTARY INFORMATION:

Background

On June 24, 2025, the U.S. Department of Commerce (Commerce) initiated a less-than-fair-value (LTFV) investigation of imports of L-Lysine (Lysine) from the People's Republic of China.¹ Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines by an additional 21 days.³ Accordingly, the deadline for this preliminary determination is now January 12, 2026.

¹ See L-Lysine from the People's Republic of China: Initiation of Less-Than-Fair-Value Investigation, 90 FR 26782 (June 24, 2025).

² See Memorandum, “Deadlines Affected by the Shutdown of the Federal Government,” dated November 14, 2025.

³ See Memorandum, “Tolling of all Case Deadlines,” dated November 24, 2025.

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On October 10, 2025, the petitioner ⁴ submitted a timely request that Commerce postpone the preliminary determination in this LTFV investigation.⁵ The petitioner stated that it requested postponement, “because one mandatory respondent in this investigation (the collapsed entity including Eppen Asia Pte Ltd and Ningxia Eppen Biotech Co., Ltd.) only recently submitted its initial responses to the Department's antidumping questionnaire, and the subsequently chosen mandatory respondent (Zhengzhou Longgu Trading Co., Ltd.) has yet to file its initial questionnaire responses.” ⁶

⁴ The petitioner is the Lysine Fair Trade Coalition.

⁵ See Petitioner's Letter, “Petitioners' Request for Postponement of the Preliminary Determination,” dated October 10, 2025.

⁶ Id.

For the reasons stated above and because there are no compelling reasons to deny the request, Commerce, in accordance with section 733(c)(1)(A) of the Act, is postponing the deadline for the preliminary determinations by 50 days (i.e., 190 days after the date on which this investigation was initiated). As a result, Commerce will issue its preliminary determination no later than March 3, 2026. In accordance with section 735(a)(1) of the Act and 19 CFR 351.210(b)(1), the deadline for the final determination of this investigation will continue to be 75 days after the date of the preliminary determination, unless postponed at a later date.

Notification to Interested Parties

This notice is issued and published pursuant to section 733(c)(2) of the Act and 19 CFR 351.205(f)(1).

Dated: December 19, 2025.
Christopher Abbott,
Deputy Assistant Secretary for Policy and Negotiations, performing the non-exclusive functions and duties of the Assistant Secretary for Enforcement and Compliance.

[FR Doc. 2025-24036 Filed 12-30-25; 8:45 am]

BILLING CODE 3510-DS-P